DEPARTMENT OF THE INTERIOR

National Park Service

Notice of Intent to Repatriate Unassociated Funerary Objects in the Possession of the U.S. Department of the Interior, Bureau of Reclamation, Central Arizona Project Repository, Tucson, AZ, and in the Control of the U.S. Department of the Interior, Bureau of Reclamation, Phoenix Area Office, Phoenix, AZ

AGENCY: National Park Service, Interior.

ACTION: Notice.

Notice is hereby given under the Native American Graves Protection and Repatriation Act, 43 CFR 10.10 (a)(3), of the intent to repatriate cultural items in the possession of the U.S. Department of the Interior, Bureau of Reclamation, Central Arizona Project Repository, Tucson, AZ, and in the control of the U.S. Department of the Interior, Bureau of Reclamation, Phoenix Area Office, Phoenix, AZ, that meet the definition of “unassociated funerary object” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The 74 cultural items are whole and reconstructable ceramic vessels; sherds; chipped stone artifacts and debitage; ground stone; worked and unworked nonhuman bone; worked and unworked shell; and archeomagnetic, pollen, and flotation samples that were collected during legally authorized data recovery efforts by the Phoenix Area Office and are now curated at the Central Arizona Project Repository.

Between 1980 and 1981, legally authorized data recovery efforts were undertaken by the Arizona State Museum for the Bureau of Reclamation at the Las Fosas site, AZ U:15:19(ASM), in the Gila River Valley east of Florence, Pinal County, AZ. The 13 unassociated funerary objects that were recovered include 6 bowls (reconstructable from sherds), 1 projectile point, 1 flake tool, and 5 flotation samples. On the basis of archeological context, chronometric, architectural, ceramic, and other types of artifactual evidence, the site represents a Hohokam occupation of the Classic period (A.D. 1150-1450).

Between 1980 and 1981, legally authorized data recovery efforts were undertaken by the Arizona State Museum for the Bureau of Reclamation at Frogtown, AZ U:15:61(ASM), west of Florence Junction, Pinal County, AZ. The one unassociated funerary object is a carved piece of shell. On the basis of archeological context, chronometric, architectural, ceramic, and other types of artifactual evidence, the site represents a Hohokam occupation of the Santa Cruz and Sacaton Phases (A.D. 750-1150) of the Preclassic period.

Between 1980 and 1981, legally authorized data recovery efforts were undertaken by the Arizona State Museum for the Bureau of Reclamation at the Dustbowl site, AZ U:15:76(ASM), on the Gila River northeast of Florence, Pinal County, AZ. The two unassociated funerary objects are one sherd disk and one bag of sherds. On the basis of archeological context, architectural, ceramic, and other types of artifactual evidence, the site represents a Hohokam occupation of the Santa Cruz Phase (A.D. 750-900) of the Preclassic period.

Between 1980 and 1981, legally authorized data recovery efforts were undertaken by the Arizona State Museum for the Bureau of Reclamation at the Saguaro site, AZ U:15:77(ASM), on the Gila River northeast of Florence, Pinal County, AZ. The eight unassociated funerary objects are three stone cores, two hammerstones, two manos, and one bag of sherds. On the basis of archeological context, architectural, ceramic, and other types of artifactual evidence, the site represents a Hohokam occupation of the Preclassic period (A.D. 700-1150).

Between 1986 and 1987, legally authorized data recovery efforts were undertaken by Archaeological Consulting Services for the Bureau of Reclamation at site AZ T:3:10(ASM), near the Agua Fria and New River Valleys north of Phoenix, Maricopa County, AZ. The three unassociated funerary objects are one partial ceramic scoop and two flotation and pollen samples. On the basis of archeological context, architectural, ceramic, and other artifactual evidence, this site represents a Hohokam occupation of the Preclassic period (A.D. 800-1150).

In 1985, legally authorized data recovery efforts were undertaken by the Museum of Northern Arizona for the Bureau of Reclamation at the Brady Wash site, NA18003 (MNA), at the base of the Picacho Mountains in Pinal County, AZ. The one unassociated funerary object is a Sacaton Red/Buff ceramic censer. On the basis of archeological context, chronometric, architectural, ceramic, and other artifactual evidence, this site represents a Hohokam occupation of the Classic period (A.D. 1150-1450).

In 1985, Arizona State University undertook legally authorized data recovery for the Bureau of Reclamation at the Muchas Casas site, AZ AA:12:2(ASU), north of Tucson, Pima County, AZ. The nine unassociated funerary objects are one miniature ceramic bowl, one reconstructed miniature ceramic jar, four bags of sherds, one faunal bone, and two mineral samples. On the basis of archeological context, chronometric, architectural, ceramic, and other artifactual evidence, this site represents a Hohokam occupation of the Classic period (A.D. 1150-1450).

Between 1982 and 1983, Arizona State Museum undertook a legally authorized survey for the Bureau of Reclamation at site AZ AA:12:331(ASM), at the base of the Picacho Mountains, Pima County, AZ. The one unassociated funerary object is a bag of ochre that was recovered in a soil matrix from a possible cremation exposed on the surface. On the basis of archeological context, architectural, ceramic, and other artifactual evidence, this site represents a Hohokam occupation of the Classic period (A.D. 1150-1450).

Between 1985 and 1986, legally authorized data recovery efforts were undertaken by Northland Research for the Bureau of Reclamation at the Hind site, AZ AA:1:62(ASM), in the lower Santa Cruz Valley, Pinal County, AZ, in an area to be impacted by the Santa Rosa Canal. The two unassociated funerary objects are two large Gila Plain bowl sherds. On the basis of archeological context, chronometric dating (radiocarbon and archeomagnetic), architectural, ceramic, and other artifactual evidence, this site is dated to the Late Pioneer through Early Sedentary Phases (A.D. 700-950) of the Preclassic period.

Between 1985 and 1986, legally authorized data recovery efforts were undertaken by Northland Research for the Bureau of Reclamation at Shelltown, AZ AA:1:66(ASM), located in the lower Santa Cruz Valley, Pinal County, AZ, in an area to be impacted by the Santa Rosa Canal. The 34 unassociated funerary objects are 1 partially reconstructable Snaketown Red/Buff bowl; 1 partial Gila Butte Red/Buff bowl; 1 partial Red/Buff jar; 14 bags of sherds; 1 worked sherd; 4 bags of chipped stone; 1 bag of unworked shell; 1 bag of unworked faunal bone; and 10 flotation, pollen, and radiocarbon samples. On the basis of archeological context, chronometric dating (radiocarbon and archeomagnetic), architectural, ceramic, and other artifactual evidence, this site represents a Hohokam occupation of the Gila Butte through Sacaton Phases (A.D. 600-1150) of the Preclassic period.

Evidence provided by anthropological, archeological, biological, geographical, historical, kinship, linguistics, and oral tradition sources was considered in determining the cultural affiliation of these cultural items. Bureau of Reclamation officials have determined that, pursuant to 43 CFR 10.2(e), the preponderance of the evidence suggests that the historic O’odham groups (Ak-Chin Indian Community of the Ak-Chin Indian Reservation, Arizona; Gila River Indian Community of the Gila River Indian Reservation, Arizona; Salt River Pima-Maricopa Indian Community of the Salt River Reservation, Arizona; and Tohono O’odham Nation of Arizona, including the San Xavier District) have a strong cultural affiliation with the prehistoric Hohokam who occupied the middle Gila Valley and surrounding areas. Great similarities in settlement patterns, economic systems, architecture, and material culture point to a close relationship between the Hohokam and the O’odham groups. The O’odham were well established along the rivers and in the deserts when the Spanish first arrived in northern Sonora and southern Arizona.

One of the two Pima moieties claims descent from the Hohokam, while the other moiety is said to have descended from the “emergers,” those who overthrew the Hohokam leaders. Although the O’odham belong to the same linguistic group (Piman) as communities in what is now northern Mexico, shared vocabulary and syntax with Yuman language groups along the Colorado River suggest a long-term history of interaction that stretches back into prehistoric times in what is now southern Arizona.

Evidence also shows the interaction of ancestral Zuni and Hopi groups with the prehistoric Hohokam. This interaction is indicated by the presence of trade items, particularly ceramics. Such interaction continued into protohistoric and early historic times. In addition to trade, Hopi and Zuni migration traditions indicate that clans originating from areas south of the Colorado Plateau joined the plateau communities late in prehistoric times. These groups contributed ceremonies, societies, and iconography to the plateau groups. Both O’odham and Western Pueblo oral traditions indicate that some Hohokam groups may have left the Salt-Gila River Basin after disastrous floods and social upheaval. These groups traveled north and east, possibly to be assimilated by the Hopi and Zuni. These ties are reflected in some of the traditional ceremonies maintained as part of the annual ceremonial cycle.

Evidence suggests that the Hopi and Zuni are also culturally affiliated with the Hohokam. Their ancestors had trade relationships and other likely interactions with the Hohokam, similar to those found between groups in the early historic period. Hopi and Zuni oral traditions indicate that segments of the prehistoric Hohokam population migrated to the areas occupied by the Hopi and Zuni and were assimilated into the resident populations.

Based on the above-mentioned information, officials of the Bureau of Reclamation have determined that, pursuant to 43 CFR 10.2 (d)(2)(ii), the 74 cultural items listed above are reasonably believed to have been placed with or near individual human remains at the time of death or later as part of the death rite or ceremony, and are believed, by a preponderance of the evidence, to have been removed from a specific burial site of a Native American individual. Officials of the Bureau of Reclamation also have determined that, pursuant to 43 CFR 10.2(e), there is a relationship of shared group identity that can be reasonably traced between these unassociated funerary objects and the Ak-Chin Indian Community of the Ak-Chin Indian Reservation, Arizona; Gila River Indian Community of the Gila River Indian Reservation, Arizona; Hopi Tribe of Arizona; Salt River Pima-Maricopa Indian Community of the Salt River Reservation, Arizona; Tohono O’odham Nation of Arizona; and the Zuni Tribe of the Zuni Reservation, New Mexico.

This notice has been sent to the Ak-Chin Indian Community of the Ak-Chin Indian Reservation, Arizona; Chemehuevi Indian Tribe of the Chemehuevi Indian Reservation, California; Cocopah Tribe of Arizona; Colorado River Indian Tribes of the Colorado River Indian Reservation, Arizona and California; Fort McDowell Mohave-Apache Community of the Fort McDowell Indian Reservation, Arizona; Fort Mohave Indian Tribe of Arizona, California & Nevada; Gila River Indian Community of the Gila River Indian Reservation, Arizona; Hopi Tribe of Arizona; Pascua Yaqui Tribe of Arizona; Quechan Tribe of the Fort Yuma Indian Reservation, California & Arizona; Salt River Pima-Maricopa Indian Community of the Salt River Reservation, Arizona; San Carlos Apache Tribe of the San Carlos Reservation, Arizona; Tohono O’Odham Nation of Arizona; Tonto Apache Tribe of Arizona; White Mountain Apache Tribe of the Fort Apache Reservation, Arizona; Yavapai-Apache Nation of the Camp Verde Indian Reservation, Arizona; Yavapai-Prescott Tribe of the Yavapai Reservation, Arizona; and the Zuni Tribe of the Zuni Reservation, New Mexico. Representatives of any other Indian tribe that believes itself to be culturally affiliated with these unassociated funerary objects should contact in writing Jon Czaplicki or Bruce Ellis, Bureau of Reclamation, Phoenix Area Office, P.O. Box 81169, Phoenix, AZ 85069-1169, telephone (602) 216-3862, before March 29, 2002. Repatriation of these unassociated funerary objects to the Ak-Chin Indian Community of the Ak-Chin Indian Reservation, Arizona; Gila River Indian Community of the Gila River Indian Reservation, Arizona; Hopi Tribe of Arizona; Salt River Pima-Maricopa Indian Community of the Salt River Reservation, Arizona; Tohono O’Odham Nation of Arizona; and the Zuni Tribe of the Zuni Reservation, New Mexico may begin after that date if no additional claimants come forward.

Dated: January 25, 2002.
Robert Stearns,
Manager, National NAGPRA Program.

[FR Doc. 02-4581 Filed 2-26-02; 8:45 am]

BILLING CODE 4310-70-S